DEPARTMENT OF AGRICULTURE

Submission for OMB Review; Comment Request

January 6, 2022.

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by February 10, 2022 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Animal and Plant Health Inspection Service

Title: National Poultry Improvement Plan (NPIP).

OMB Control Number: 0579-0007.

Summary of Collection: The National Poultry Improvement Plan (NPIP) is a voluntary Federal-State-industry program for controlling certain poultry diseases and for improving poultry breeding flocks and products through disease control techniques. It is authorized by the USDA Organic Act of 1944, as amended (7 U.S.C. 429) and the cooperative work is carried out through memoranda of understanding with the participating States. Specific NPIP provisions are contained in Title 9, Parts 56, 145, 146, and 147 of the Code of Federal Regulations. The Veterinary Services (VS) unit of USDA's Animal and Plant Health Inspection Service (APHIS) administers these regulations.

Need and Use of the Information: APHIS will collect information using several information collection activities to continually improve the health of the U.S. poultry population and the quality of U.S. poultry products. If the information were collected less frequently or not collected, APHIS could not affectively monitor the health of the nation's poultry population.

Description of Respondents: Business or other for-profit; State, Local or Tribal Government; Individuals or households.

Number of Respondents: 2,867.

Frequency of Responses: Recordkeeping; Reporting: On occasion.

Total Burden Hours: 111,339.

Ruth Brown,
Departmental Information Collection Clearance Officer.

[FR Doc. 2022-00293 Filed 1-10-22; 8:45 am]

BILLING CODE 3410-34-P